DEPARTMENT OF TRANSPORTATION

Federal Highway Administration

Notice of Final Federal Agency Actions on Proposed Highway in California

AGENCY: Federal Highway Administration (FHWA), DOT.

ACTION: Notice of limitation on claims for Judicial Review of actions by the California Department of Transportation (Caltrans), pursuant to 23 U.S.C. 327

SUMMARY: The FHWA, on behalf of Caltrans, is issuing this notice to announce actions taken by Caltrans that are final within the meaning of 23 U.S.C. 139(l)(1). The actions relate to a proposed highway project, Interstate 5 HOV Lanes Improvements (State Route 55 to State Route 57) within the cities of Santa Ana and Orange in the County of Orange, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before November 23, 2015. If the Federal law that authorizes judicial review of a claim provides a time period of less than 150 days for filing such claim, then that shorter time period still applies.

FOR FURTHER INFORMATION CONTACT: For Caltrans: Smita Deshpande, Environmental Branch Chief, Caltrans District 12, 3347 Michelsen Drive, Irvine, CA 92612, Hours: 0800-1700.

SUPPLEMENTARY INFORMATION: Effective July 1, 2007, the Federal Highway Administration (FHWA) assigned, and the California Department of Transportation (Caltrans) assumed, environmental responsibilities for this project pursuant to 23 U.S.C. 327. Notice is hereby given that Caltrans has taken final agency actions subject to 23 U.S.C. 139(l)(1) by issuing licenses, permits, and approvals for the following highway project in the State of California: Addition of one HOV lane in each direction on a 2.9-mile stretch of this portion of I-5 {Post Mile 31.3-34.2} and removal of the southbound off-ramp and northbound on-ramp HOV structure at Main Street in order to improve HOV lane operations [CMLN-6071(108)]. The actions by the Federal agencies, and the laws under which such actions were taken, are described in the Environmental Assessment/Finding of No Significant Impact for the project, approved on April 8, 2015, and in other documents in Caltrans project records. The EA/FONSI and other project records are available by contacting Caltrans at the address provided above. The Caltrans EA/FONSI can be viewed and downloaded from the project Web site at http://www.dot.ca.gov/dist12/DEA/0C890/index.htm.

This notice applies to all Federal agency decisions as of the issuance date of this notice and all laws under which such actions were taken, including but not limited to:

1. National Environmental Policy Act (NEPA) [42 U.S.C. 4321-4351]; Federal-Aid Highway Act [23 U.S.C. 109 and 23 U.S.C.128]

2. Clean Air Act [42 U.S.C. 7401-7671(q)]

3. Floodplain Management, Executive Order 11988

4. Federal Actions to Address Environmental Justice in Minority Populations and Low Income Populations, Executive Order 12898

(Catalog of Federal Domestic Assistance Program Number 20.205, Highway Planning and Construction. The regulations implementing Executive Order 12372 regarding intergovernmental consultation on Federal programs and activities apply to this program.)

Authority: 23 U.S.C. 139(l)(1)

Gary Sweeten,
North Team Leader, Project Delivery, Federal Highway Administration, Sacramento, California.

[FR Doc. 2015-15712 Filed 6-25-15; 8:45 am]

BILLING CODE 4910-RY-P